DEPARTMENT OF JUSTICE

Notice of Lodging of Consent Decree Under The Comprehensive Environmental Response, Compensation, and Liability Act (“CERCLA”)

In accordance with 28 CFR 50.7 and 42 U.S.C. 9622(d)(2), notice is hereby given that on August 31, 2001, a Consent Decree in United States v. JCI Jones Chemicals, Inc., Civil Action No. 01-CF-6426 T(F), was lodged with the United States District Court for the Western District of New York.

In this action the United States, on behalf of the U.S. Environmental Protection Agency (“EPA”), sought injunctive relief and recovery of past and future costs, under Sections 106, 107, 113 and 122 of the Comprehensive Environmental Response, Compensation and Liability Act (“CERCLA”), 42 U.S.C. 9606, 9707, 9613 and 9622, regarding the Jones Chemicals, Inc. Superfund Site (the “Site”) in the Village of Caledonia, Livingstone County, New York. Under the terms of the Consent Decree, JCI Jones Chemicals, Inc. (“Jones”) will pay $30,688.70 to the United States as reimbursement of past costs and agrees to reimburse the United States for all costs incurred in the future relating to the Site. Jones also agrees to perform the cleanup at the Site by implementing the remedy selected by EPA as set forth in the Record of Decision for the Site, which includes remediation of contaminated soil and ground water. The estimated costs of the cleanup that Jones will perform is $2.3 million.

The Department of Justice will receive for a period of thirty (30) days from the date of this publication comments relating to the Consent Decree. Comments should be addressed to the Assistant Attorney General, Environment and Natural Resources Division, P.O. Box 7611, U.S. Department of Justice, Washington, DC 20044-7611, and should refer to United States v. JCI Jones Chemicals, Inc., D.J. Ref. 90-11-3-07345.

The Consent Decree may be examined at the Office of the United States Attorney for the Western District of New York, 138 Delaware Avenue, Buffalo, New York, and at EPA Region 2, Office of the Environmental Protection Agency, 290 Broadway, New York, New York. A copy of the Consent Decree may also be obtained by mail from the Consent Decree Library, P.O. Box 7611, U.S. Department of Justice, Washington, DC 20044-7611. In requesting a copy, please enclose a check payable to the Consent Decree Library in the amount of $55.25 (25 cents per page reproduction cost) for a copy including appendices, or $20.75 (25 cents per page reproduction cost) for a copy exclusive of appendices.

Ronald G. Gluck,
Assistant Section Chief, Environmental Enforcement Section, Environment and Natural Resources Division, U.S. Department of Justice.

[FR Doc. 01-23167 Filed 9-14-01; 8:45 am]

BILLING CODE 4410-15-M